DEPARTMENT OF TRANSPORTATION

Federal Aviation Administration

14 CFR Part 39

[Docket No. FAA-2008-0657; Directorate Identifier 2007-NM-296-AD; Amendment 39-15787; AD 2009-01-08]

RIN 2120-AA64

Airworthiness Directives; Airbus Model A300, A310, and A300-600 Series Airplanes

AGENCY: Federal Aviation Administration (FAA), Department of Transportation (DOT).

ACTION: Final rule.

SUMMARY: The FAA is superseding an existing airworthiness directive (AD), which applies to certain Airbus Model A300, A310, and A300-600 series airplanes. That AD currently requires repetitive detailed visual inspections to detect cracks in the pylon thrust and sideload fitting of the wing, and replacement of any cracked pylon thrust and sideload fitting with a new fitting. This new AD reduces the threshold and repetitive intervals for the detailed inspection for certain airplanes and reduces the applicability of the existing AD. This AD results from issuance of mandatory continuing airworthiness information by a foreign civil airworthiness authority. We are issuing this AD to detect and correct cracks in the pylon thrust and sideload fitting of the wing, which could result in reduced structural integrity of the airplane.

DATES: This AD becomes effective March 27, 2009.

The Director of the Federal Register approved the incorporation by reference of certain publications listed in the AD as of March 27, 2009.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

The FAA issued a notice of proposed rulemaking (NPRM) to amend 14 CFR part 39 to include an AD that supersedes AD 98-16-11, amendment 39-10687 (63 FR 40816, July 31, 1998). The existing AD applies to certain Airbus Model A300, A310, and A300-600 series airplanes. That NPRM was published in the Federal Register on June 17, 2008 (73 FR 34224). That NPRM proposed to continue to require repetitive detailed visual inspections to detect cracks in the pylon thrust and sideload fitting of the wing, and replacement of any cracked pylon thrust and sideload fitting with a new fitting. That NPRM also proposed to require reducing the threshold and repetitive intervals for the detailed inspection for certain airplanes and would reduce the applicability of the existing AD.

Comments

We gave the public the opportunity to participate in developing this AD. We considered the comments received from the three commenters.

Request for Definition Paragraph

An anonymous commenter requests that we revise the NPRM to add a “definitions” paragraph since Table 2 and Table 3 of the NPRM refer to both the long range and short range Model A310-300 series airplanes. The commenter suggests defining the average flight times.

We do not agree. The Office of the Federal Register has approved the incorporation by reference of Airbus Mandatory Service Bulletin A310-57-2075, Revision 03, dated December 1, 2006. Therefore, we have determined that it is not necessary to incorporate a definitions paragraph since paragraph 1.E. of this service bulletin includes an explanation of short-range and long-range airplanes, and their average flight times. We have not changed the final rule regarding this issue.

Request To Mandate the Inspection Section of the Service Bulletins

Air Transport Association, on behalf of American Airlines (AA), requests that, since the safety issue is detecting cracks in the fitting, the AD should mandate only the “inspection section” of Airbus Mandatory Service Bulletin A300-57-0232, Revision 02, dated February 21, 2000; Airbus Mandatory Service Bulletin A300-57-6079, Revision 04, dated February 21, 2000; and Airbus Mandatory Service Bulletin A310-57-2075, Revision 03, dated December 1, 2006; instead of the entire accomplishment instructions of these service bulletins. AA believes that mandating the “inspection section” would still correct the unsafe condition and allow operators to modify other steps as required, while maintaining a safe work environment.

We disagree. We are mandating the entire Accomplishment Instructions of these service bulletins because they include the inspection, repair, and other necessary instructions to correct the unsafe condition. Affected operators may request approval for an alternative method of compliance, under the provisions of paragraph (k) of the AD. We have not changed the final rule regarding this issue.

Request To Retain Inspection Requirements, Provide Terminating Action, and Provide Approval Authority

FedEx Express requests that we include the following requirements in the NPRM: Keep the current inspection method and interval if the airplane has not reached the design service goal (the economic impact will increase due to additional inspections); terminate the inspections if the pylon sideload fitting is replaced with a fitting made using improved manufacturing techniques; and provide an alternative means of compliance repair approval authority to the European Aviation Safety Agency (EASA) or its delegated agent.

We disagree with keeping the current inspection method and interval for airplanes that have not reached the design service goal because we have determined that the new intervals are necessary to address the unsafe condition. We have not changed the final rule regarding this issue.

We disagree with terminating the inspections if the pylon sideload fitting is replaced with a fitting made using improved manufacturing techniques. At this time we have not received sufficient information from the manufacturer or EASA to determine if the manufacturing techniques are adequate and the inspections can be terminated. We have not changed the final rule regarding this issue.

We agree with FedEx Express that, as a method of compliance with paragraph (g) of this AD, repair approval authority can be given to EASA or its delegated agent. Affected operators may request an optional approval method, under the provisions of paragraph (j) of the AD. We have changed the final rule regarding this issue.

Conclusion

We have carefully reviewed the available data, including the comments that have been received, and determined that air safety and the public interest require adopting the AD with the change described previously. We have determined that this change will neither increase the economic burden on any operator nor increase the scope of the AD.

Costs of Compliance

This AD affects about 164 Model A300, A310, and A300-600 series airplanes of U.S. registry. The inspections that are required by AD 98-16-11 and retained in this AD take about 3 work hours per airplane, at an average labor rate of $80 per work hour. Based on these figures, the estimated cost of the currently required actions is $39,360, or $240 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-10687 (63 FR 40816, July 31, 1998) and by adding the following new airworthiness directive (AD):

2009-01-08 Airbus: Amendment 39-15787. Docket No. FAA-2008-0657; Directorate Identifier 2007-NM-296-AD.

Effective Date

(a) This AD becomes effective March 27, 2009.

Affected ADs

(b) This AD supersedes AD 98-16-11.

Applicability

(c) This AD applies to Airbus airplanes identified in Table 1 of this AD, certificated in any category.

Table 1—Applicability
Model— | As identified in Airbus Mandatory Service Bulletin—
(1) A300 series airplanes | A300-57-0232, Revision 02, dated February 21, 2000.
(2) A310 series airplanes | A310-57-2075, Revision 03, dated December 1, 2006.
(3) A300-600 series airplanes | A300-57-6079, Revision 04, dated February 21, 2000.

Unsafe Condition

(d) This AD results from issuance of mandatory continuing airworthiness information by a foreign civil airworthiness authority. We are issuing this AD to detect and correct cracks in the pylon thrust and sideload fitting of the wing, which could result in reduced structural integrity of the airplane.

Compliance

(e) You are responsible for having the actions required by this AD performed within the compliance times specified, unless the actions have already been done. Requirements of AD 98-16-11:

Repetitive Detailed Inspections at Reduced Thresholds and Repeat Intervals for Certain Airplanes

(f) At the applicable time specified in paragraph (f)(1) or (f)(2) of this AD: Perform a detailed inspection to detect cracks in the pylon thrust and sideload fitting of the wing, in accordance with Airbus Service Bulletin A300-57-0232, Revision 01 (for Model A300 series airplanes); A310-57-2075, Revision 01 (for Model A310 series airplanes); or A300-57-6079, Revision 02 (for Model A300-600 series airplanes); all dated January 12, 1998; as applicable; except as provided by paragraph (h) of this AD.

(1) For Model A300 and A300-600 series airplanes: Inspect prior to the accumulation of 2,800 total flight cycles, or within 18 months after September 4, 1998 (the effective date AD 98-16-11), whichever occurs later, and thereafter at intervals not to exceed 2,800 flight cycles.

(2) For Model A310 series airplanes: Inspect at the earlier of the times specified in paragraph (f)(2)(i) and (f)(2)(ii) of this AD. Repeat thereafter at the applicable intervals specified in Table 3 of this AD.

(i) Prior to the accumulation of 2,800 total flight cycles, or within 18 months after September 4, 1998, whichever occurs later.

(ii) At the applicable time specified in Table 2 of this AD.

Table 2—Reduced Inspection Thresholds for Model A310 Series Airplanes
Model | Compliance time (whichever occurs later): Threshold | Compliance time (whichever occurs later): Grace period
A310-200 series airplanes. | Before the accumulation of 1,500 total flight cycles or 3,000 total flight hours since first flight, whichever occurs first | Within 800 flight cycles or 1,600 flight hours after the effective date of this AD, whichever occurs first.
A310-300 series airplanes (short range) | Before the accumulation of 1,300 total flight cycles or 3,800 total flight hours since first flight, whichever occurs first | Within 800 flight cycles or 1,600 flight hours after the effective date of this AD, whichever occurs first.
A310-300 series airplanes (long range) | Before the accumulation of 800 total flight cycles or 4,000 total flight hours since first flight, whichever occurs first | Within 800 flight cycles or 1,600 flight hours after the effective date of this AD, whichever occurs first.

Table 3—Reduced Repeat Intervals for Model A310 Series Airplanes
For Model— | Repeat the detailed inspection at the later of— | And, thereafter at intervals not to exceed—
A310-200 series airplanes. | Within 1,500 flight cycles or 3,000 flight hours since the last detailed inspection, whichever occurs first; or within 800 flight cycles or 1,600 flight hours after the effective date of this AD, whichever occurs first | 1,500 flight cycles or 3,000 flight hours, whichever occurs first.
A310-300 series airplanes (short range) | Within 1,300 flight cycles or 3,800 flight hours since the last detailed inspection, whichever occurs first; or within 800 flight cycles or 1,600 flight hours after the effective date of this AD, whichever occurs first | 1,300 flight cycles or 3,800 flight hours, whichever occurs first.
A310-300 series airplanes (long range) | Within 800 flight cycles or 4,000 flight hours since the last detailed inspection, whichever occurs first; or within 800 flight cycles or 1,600 flight hours after the effective date of this AD, whichever occurs first | 800 flight cycles or 4,000 flight hours, whichever occurs first.

Corrective Action

(g) If any crack is detected during any inspection required by paragraph (f) of this AD, prior to further flight, replace the pylon thrust and sideload fitting with a new fitting in accordance with Airbus Service Bulletin A300-57-0232, Revision 01 (for Model A300 series airplanes); A310-57-2075, Revision 01 (for Model A310 series airplanes); or A300-57-6079, Revision 02 (for Model A300-600 series airplanes); all dated January 12, 1998; as applicable; except as provided by paragraphs (h) and (j) of this AD.

New Actions Required by This AD:

New Service Information

(h) For all airplanes: As of the effective date of this AD, use only the Accomplishment Instructions of the applicable service bulletin specified in Table 4 of this AD to do the repetitive detailed inspections required by paragraph (f) of this AD and the replacement required by paragraph (g) of this AD.

Table 4—New Service Bulletins
Airbus mandatory Service Bulletin— | For model—
(1) A300-57-0232, Revision 02, dated February 21, 2000 | A300 series airplanes.
(2) A300-57-6079, Revision 04, dated February 21, 2000 | A300-600 series airplanes.
(3) A310-57-2075, Revision 03, dated December 1, 2006 | A310 series airplanes.

(i) Actions done before the effective date of this AD in accordance with Airbus Service Bulletin A300-57-6079, Revision 02, dated January 12, 1998, or Revision 03, dated October 25, 1999 (for Model A300-600 series airplanes); A310-57-2075, Revision 01, dated January 12, 1998, or Revision 02, dated February 21, 2000 (for Model A310 series airplanes); or A300-57-0232, Revision 01, dated January 12, 1998 (for Model A300 series airplanes); are acceptable for compliance with the corresponding requirements of this AD.

Optional Approval Method

(j) Repairing the pylon thrust and sideload fitting of the wing, using a method approved by either the Manager, International Branch, ANM-116, Transport Airplane Directorate, FAA; or the European Aviation Safety Agency (EASA), or its delegated agent, is acceptable for compliance with the replacement required by paragraph (g) of this AD.

Alternative Methods of Compliance (AMOCs)

(k) The Manager, International Branch, ANM-116, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your appropriate principal inspector (PI) in the FAA Flight Standards District Office (FSDO), or lacking a PI, your local FSDO.

Related Information

(l) EASA airworthiness directive 2007-0243, dated September 4, 2007, also addresses the subject of this AD.

Material Incorporated by Reference

(m) You must use service bulletins identified in Table 5 of this AD to do the actions required by this AD, as applicable, unless the AD specifies otherwise.

Table 5—All Material Incorporated by Reference
Airbus service information | Revision | Date
Airbus Mandatory Service Bulletin A300-57-0232 | 02 | February 21, 2000.
Airbus Mandatory Service Bulletin A300-57-6079 | 04 | February 21, 2000.
Airbus Mandatory Service Bulletin A310-57-2075 | 03 | December 1, 2006.
Airbus Service Bulletin A300-57-0232 | 01 | January 12, 1998.
Airbus Service Bulletin A300-57-6079 | 02 | January 12, 1998.
Airbus Service Bulletin A310-57-2075 | 01 | January 12, 1998.

(1) The Director of the Federal Register approved the incorporation by reference of the service bulletins identified in Table 6 of this AD in accordance with 5 U.S.C. 552(a) and 1 CFR part 51.

Table 6—New Material Incorporated by Reference
Airbus mandatory Service Bulletin— | Revision— | Dated—
A300-57-0232 | 02 | February 21, 2000.
A300-57-6079 | 04 | February 21, 2000.
A310-57-2075 | 03 | December 1, 2006.

(2) On September 4, 1998 (63 FR 40816, July 31, 1998) the Director of the Federal Register approved the incorporation by reference of the service bulletins identified in Table 7 of this AD.

Table 7—Material Previously Incorporated by Reference
Airbus Service Bulletin— | Revision— | Dated—
A300-57-0232 | 01 | January 12, 1998.
A310-57-2075 | 01 | January 12, 1998.
A300-57-6079 | 02 | January 12, 1998.

(3) For service information identified in this AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com.

(4) You may review copies of the service information that is incorporated by reference at the FAA, Transport Airplane Directorate, 1601 Lind Avenue, SW., Renton, Washington. For information on the availability of this material at the FAA, call 425-227-1221 or 425-227-1152.

(5) You may also review copies of the service information at the National Archives and Records Administration (NARA). For information on the availability of this material at NARA, call 202-741-6030, or go to: http://www.archives.gov/federal_register/code_of_federal_regulations/ibr_locations.html.

Issued in Renton, Washington, on December 18, 2008.
Stephen P. Boyd,
Assistant Manager, Transport Airplane Directorate, Aircraft Certification Service.

[FR Doc. E9-3276 Filed 2-19-09; 8:45 am]

BILLING CODE 4910-13-P